DEPARTMENT OF JUSTICE

Notice of Lodging of Settlement Agreement Under the Comprehensive Environmental Response, Compensation, and Liability Act (CERCLA)

Notice is hereby given that on July 11, 2002, a proposed settlement agreement in In re: Metal Management, Inc., et al., Case No. 00-4303, was lodged with the United States Bankruptcy Court for the District of Delaware.

In this action the United States sought recovery of (1) past and future response costs under CERCLA at the Consolidated Iron & Metal Superfund Site in Newburgh, New York, at which Metal Management Connecticut, Inc. and Metal Management Northeast, Inc. allegedly arranged for the disposal of hazardous substances; and (2) past and future response costs and injunctive relief under CERCLA at the Jack's Creek Superfund Site in Mifflin County, Pennsylvania, at which Metal Management Connecticut, Inc. and Metal Management Pittsburgh, Inc. allegedly disposed of hazardous substances.

Pursuant to the proposed settlement agreement, Metal Management will consent to an Allowed General Unsecured Claim in the amount of $397,000 with regard to the Consolidated Iron & Metal Superfund Site. The liability of Metal Management Connecticut, Inc.'s predecessor in interest relating to the Jack's Creek Superfund Site has been resolved in a separate settlement in United States v. American Scrap Co., Civil Action No. 1:99-CV-2047 (M.D. Penn.). The injunctive relief sought against Metal Management Pittsburgh, Inc. is now moot due to the separate settlement between Metal Management and the Jack's Creek PRP Group in the bankruptcy action.

The Department of Justice will receive for a period of thirty (30) days from the date of this publication comments relating to the settlement agreement. Comment should be addressed to the Assistant Attorney General, Environment and Natural Resources Division, PO Box 7611, U.S. Department of Justice, Washington, DC 20044-7611, and should refer to In re: Metal Management, Inc., et al. (Bankr. D. Del.), D.J. Ref. 90-5-2-1-07207/1.

The settlement agreement may be examined at the Office of the United States Attorney, 1201 Market Street, Suite 1100, Wilmington, Delaware, and at U.S. EPA Region II, 290 Broadway, New York, New York. A copy of the settlement agreement may also be obtained by mail from the Consent Decree Library, PO Box 7611, U.S. Department of Justice, Washington, DC 20044-7611. In requesting a copy, please enclose a check in the amount of $4.25 (25 cents per page reproduction cost) payable to the U.S. Treasury.

William D. Brighton,
Assistant Chief, Environmental Enforcement Section, Environment and Natural Resources Division.

[FR Doc. 02-19385 Filed 7-31-02; 8:45 am]

BILLING CODE 4410-15-M